INTERNATIONAL TRADE COMMISSION

[Investigation Nos. 731-TA-1360-1361 (Final)]

Tool Chests and Cabinets From China and Vietnam; Determination

On the basis of the record ¹ developed in the subject investigations, the United States International Trade Commission (“Commission”) determines, pursuant to the Tariff Act of 1930 (“the Act”), that an industry in the United States is materially injured by imports of tool chests and cabinets from China and Vietnam, provided for in subheadings 7326.90.35, 7326.90.86, and 9403.20.00 of the Harmonized Tariff Schedule of the United States that have been found by the U.S. Department of Commerce (“Commerce”) to be sold in the United States at less than fair value (“LTFV”).² ³

¹ The record is defined in section 207.2(f) of the Commission's Rules of Practice and Procedure (19 CFR 207.2(f)).

² Commissioner Kearns did not participate in these investigations.

³ 83 FR 15365 (April 10, 2018) and 83 FR 15361 (April 10, 2018).

Background

The Commission, pursuant to section 735(b) of the Act (19 U.S.C. 1673d(b)), instituted these investigations effective April 11, 2017, following receipt of a petition filed with the Commission and Commerce by Waterloo Industries Inc., Sedalia, Missouri. Effective September 15, 2017, the Commission established a general schedule for the conduct of the final phase of its investigations on tool chests and cabinets, following a preliminary determination by Commerce that imports of the subject merchandise were subsidized by the government of China. Notice of the scheduling of the final phase of the Commission's investigations and of a public hearing to be held in connection therewith was given by posting copies of the notice in the Office of the Secretary, U.S. International Trade Commission, Washington, DC, and by publishing the notice in the Federal Register of September 25, 2017 (82 FR 44657). The hearing was held in Washington, DC, on November 28, 2018, and all persons who requested the opportunity were permitted to appear in person or by counsel. Following notification of final determinations by Commerce that imports of tool chests and cabinets from China and Vietnam were being sold at LTFV within the meaning of section 735(b) of the Act (19 U.S.C. 1673d(a)), notice of the supplemental scheduling of the final phase of the Commission's antidumping duty investigations was given by posting copies of the notice in the Office of the Secretary, U.S. International Trade Commission, Washington, DC, and by publishing the notice in the Federal Register of April 10, 2018 (83 FR 15361-68).

The Commission made these determinations pursuant to section 735(b) of the Act (19 U.S.C. 1673d (b)). It completed and filed its determinations in these investigations on May 24, 2018. The views of the Commission are contained in USITC Publication 4787 (May 2018), entitled Tool Chests and Cabinets from China and Vietnam: Investigation Nos. 731-TA-1360-1361 (Final).

By order of the Commission.
Issued: May 24, 2018.
William Bishop,
Supervisory Hearings and Information Officer.

[FR Doc. 2018-11522 Filed 5-29-18; 8:45 am]

BILLING CODE 7020-02-P